INTERNATIONAL TRADE COMMISSION

[Investigation No. 731-TA-1104 (Final)]

Certain Polyester Staple Fiber from China

AGENCY: International Trade Commission.

ACTION: Revised schedule for the subject investigation.

EFFECTIVE DATE: February 9, 2007.

FOR FURTHER INFORMATION CONTACT: Nathanael Comly (202-205-3174), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On January 8, 2007, the Commission established a schedule for the conduct of the final phase of the subject investigation (72 FR 1342, January 11, 2007). Subsequently, the Department of Commerce extended the date for its final determination in the investigation from March 12, 2007 to April 10, 2007 (72 FR 6201, February 9, 2007). The Commission, therefore, is revising its schedule to conform with Commerce's new schedule.

Revisions to the Commission's current schedule for the investigation are as follows: the deadline for filing posthearing briefs is changed from March 20 to March 22, 2007; the deadline for a non-party to file a statement of information pertinent to the subject of the investigation, including statements of support or opposition to the petition, is changed from March 20 to March 22, 2007; comments on Commerce's final determination of sales at less than fair value (not to exceed 5 pages) may be filed on or before April 16, 2007; the date for final release of information by the Commission is changed from April 5 to May 8, 2007; the deadline for filing final party comments is changed from April 9 to May 10, 2007. All written submissions shall conform to the filing requirements set forth in our scheduling notice issued January 8, 2007 (72 FR 1341, January 11, 2007)

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to § 207.21 of the Commission's rules.

Issued: February 13, 2007.
By order of the Commission.
Marilyn R. Abbott,
Secretary to the Commission.

[FR Doc. E7-2818 Filed 2-15-07; 8:45 am]

BILLING CODE 7020-02-P